DEPARTMENT OF AGRICULTURE

Food and Nutrition Service

Emergency Food Assistance Program; Availability of Foods for Fiscal Year 2015

AGENCY: Food and Nutrition Service, USDA.

ACTION: Notice.

SUMMARY: This notice announces the surplus and purchased foods that the Department expects to make available for donation to States for use in providing nutrition assistance to the needy under The Emergency Food Assistance Program (TEFAP) in Fiscal Year (FY) 2015. The foods made available under this notice must, at the discretion of the State, be distributed to eligible recipient agencies (ERAs) for use in preparing meals and/or for distribution to households for home consumption.

DATES: Effective Date: October 1, 2014.

FOR FURTHER INFORMATION CONTACT: Jeramia Garcia, Policy Branch, Food Distribution Division, Food and Nutrition Service, U.S. Department of Agriculture, 3101 Park Center Drive, Alexandria, Virginia 22302-1594; or telephone (703) 305-2662.

SUPPLEMENTARY INFORMATION: In accordance with the provisions set forth in the Emergency Food Assistance Act of 1983 (EFAA), 7 U.S.C. 7501, et seq., and the Food and Nutrition Act of 2008, 7 U.S.C. 2036, the Department makes foods available to States for use in providing nutrition assistance to those in need through TEFAP. In accordance with section 214 of the EFAA, 7 U.S.C. 7515, 60 percent of each State's share of TEFAP foods is based on the number of people with incomes below the poverty level within the State and 40 percent on the number of unemployed persons within the State. State officials are responsible for establishing the network through which the foods will be used by ERAs in providing nutrition assistance to those in need, and for allocating foods among those ERAs. States have full discretion in determining the amount of foods that will be made available to ERAs for use in preparing meals and/or for distribution to households for home consumption.

The types of foods the Department expects to make available to States for distribution through TEFAP in FY 2015 are described below.

Surplus Foods

Surplus foods donated for distribution under TEFAP are Commodity Credit Corporation (CCC) foods purchased under the authority of section 416 of the Agricultural Act of 1949, 7 U.S.C. 1431 (section 416) and foods purchased under the surplus removal authority of section 32 of the Act of August 24, 1935, 7 U.S.C. 612c (section 32). The types of foods typically purchased under section 416 include dairy, grains, oils, and peanut products. The types of foods purchased under section 32 include meat, poultry, fish, vegetables, dry beans, juices, and fruits.

Approximately $74.7 million in surplus foods acquired in FY 2014 are being delivered to States in FY 2015. These foods include applesauce, blueberries, chicken leg quarters, dehydrated potatoes, grape and orange juice, raisins, and salmon. Other surplus foods may be made available to TEFAP throughout the year. The Department would like to point out that food acquisitions are based on changing agricultural market conditions; therefore, the availability of foods is subject to change.

Purchased Foods

In accordance with section 27 of the Food and Nutrition Act of 2008, 7 U.S.C. 2036, the Secretary is directed to purchase $327 million worth of foods in FY 2015 for distribution through TEFAP. These foods are made available to States in addition to those surplus foods which otherwise might be provided to States for distribution under TEFAP.

For FY 2015, the Department anticipates purchasing the following foods for distribution through TEFAP: Fresh and dehydrated potatoes, frozen apple slices, applesauce, dried plums, raisins, frozen ground beef, pouched chicken, frozen whole chicken, frozen ham, frozen catfish, frozen turkey roast, lima beans, black-eye beans, garbanzo beans, great northern beans, light red kidney beans, pinto beans, lentils, egg mix, shell eggs, peanut butter, roasted peanuts, low-fat cheese, 1 percent, ultra high temperature fluid milk, vegetable oil, low-fat bakery flour mix, egg noodles, white and yellow corn grits, whole grain oats, macaroni, spaghetti, whole grain rotini, whole grain spaghetti and whole grain macaroni, white and brown rice, corn flakes, wheat bran flakes, oat cereal, rice cereal, corn cereal, corn and rice cereal, and shredded whole wheat cereal; the following canned items: Low sodium blackeye beans, low sodium green beans, low sodium light red kidney beans, low sodium refried beans, low sodium vegetarian beans, low sodium carrots, low sodium cream corn, no salt added whole kernel corn, low sodium peas, low sodium sliced potatoes, no salt added pumpkin, reduced sodium cream of chicken soup, reduced sodium cream of mushroom soup, low sodium tomato soup, low sodium vegetable soup, low sodium spaghetti sauce, low sodium spinach, sweet potatoes with extra light syrup, no salt added diced tomatoes, low sodium tomato sauce, low sodium mixed vegetables, unsweetened applesauce, apricots with extra light syrup, mixed fruit with extra light syrup, cling peaches with extra light syrup, pears with extra light syrup, beef, beef stew, pork, salmon and kosher salmon; and the following bottled juices: Unsweetened apple juice, unsweetened cherry apple juice, unsweetened cran-apple juice, unsweetened grape juice, unsweetened grapefruit juice, unsweetened orange juice, and unsweetened tomato juice.

The amounts of each item purchased will depend on the prices the Department must pay, as well as the quantity of each item requested by the States. Changes in agricultural market conditions may result in the availability of additional types of foods or the non-availability of one or more types listed above.

Dated: January 14, 2015.
Audrey Rowe,
Administrator, Food and Nutrition Service.

[FR Doc. 2015-00879 Filed 1-20-15; 8:45 am]

BILLING CODE 3410-30-P